DEPARTMENT OF STATE

[Public Notice: 7052]

Issuance of an Amended Presidential Permit Authorizing the Construction, Operation, and Maintenance of a Two-Span International Bridge Near Brownsville, Texas, at the International Boundary Between the United States and Mexico

SUMMARY: At the request of the permittee, the Department of State has amended the Presidential permit, originally issued in 1993, that authorizes Cameron County, Texas to construct, operate, and maintain an international bridge known as “Veterans Bridge at Los Tomates” near Brownsville, Texas, at the international boundary between the United States and Mexico. The amendment allows the permittee to build a second adjacent bridge, essentially identical to the existing four-lane bridge, to accommodate increasing traffic volume, to improve pedestrian safety, and to allow more efficient separation of different types of traffic as it approaches the border inspection station owned by the General Services Administration and operated by the Department of Homeland Security/Customs and Border Protection. In making its determination to amend the permit, the Department provided public notice of the proposed amendment and provided the opportunity for comment (73 FR 55586, Sept. 25, 2008) and also consulted with other Federal agencies, as required by Executive Order 11423, as amended.

FOR FURTHER INFORMATION CONTACT: Stewart Tuttle, U.S.-Mexico Border Affairs Coordinator, via e-mail at WHA-BorderAffairs@state.gov; by phone at 202-647-6356; or by mail at Office of Mexican Affairs—Room 3909, Department of State, 2201 C St., NW., Washington, DC 20520. Information about Presidential permits is available on the Internet at http://www.state.gov/p/wha/rt/permit/.

SUPPLEMENTARY INFORMATION: The following is the text of the amended permit:

Amended Presidential Permit Authorizing Cameron County, Texas, to Construct, Operate, and Maintain a Two-span International Bridge, its Approaches, and Facilities at the International Boundary between the United States and Mexico.

By virtue of the authority vested in me as Under Secretary of State for Economic, Energy, and Agricultural Affairs under Executive Order 11423 of August 16, 1968, 33 FR 11741; as amended by Executive Order 12847 of May 17, 1993, 58 FR 29511; Executive Order 13284 of January 23, 2003, 68 FR 4075; Executive Order 13337 of April 30, 2004, 69 FR 25299; the International Bridge Act of 1972 (86 Stat. 731; 33 U.S.C. 535 et seq.); and Department of State Delegation of Authority number 118-2 of January 26, 2006; having considered the environmental effects of the proposed action in accordance with the National Environmental Policy Act of 1969 (83 Stat. 852; 42 U.S.C. 4321 et seq.), having considered the proposed action in accordance with the National Historic Preservation Act (80 Stat. 917, 16 U.S.C. 470f et seq., and having requested and received the views of various of the Federal departments and other interested persons; I hereby grant permission, subject to the conditions herein set forth, to Cameron County, Texas (herinafter referred to as “permittee”) in partnership with the City of Brownsville, Texas, pursuant to interlocal agreement, to construct, operate, and maintain a two-span international vehicular and pedestrian bridge in the “Los Tomates” vicinity of Brownsville, Texas and Matamoros, Tamaulipas, Mexico.

The term “facilities” as used in this permit means the bridge, its approaches, and any land, structure, or installations appurtenant thereto.

The term “United States facilities” as used in this permit means that part of the facilities in the United States.

This permit is subject to the following conditions:

Article 1. The United States facilities herein described, and all aspects of their operation, shall be subject to the conditions, provisions, and requirements of this permit or any amendment thereof; further that this permit may be terminated at the will of the Secretary of State or the Secretary's delegate or may be amended by the Secretary of State or the Secretary's delegate at will or upon proper application therefor; further that the permittee shall make no substantial change in the location of the United States facilities or in the operation authorized by this permit until such changes have been approved by the Secretary of State or the Secretary's delegate.

Article 2. (1) Standards for, and manner of, the construction, operation and maintenance of the United States facilities shall be subject to inspection and approval by the representatives of appropriate Federal or State agencies. The permittee shall allow duly authorized officers and employees of such agencies free and unrestricted access to said facilities in the performance of their official duties.

(2) Prior to initiation of construction, the permittee shall obtain the approval of the United States Coast Guard (USCG) to such construction, in conformity with Section 5 of the International Bridge Act of 1972 (33 U.S.C. 535c) and Department of Homeland Security (DHS) Delegation of Authority Number 0170.1.

Article 3. The permittee shall comply with all Federal and State laws and regulations regarding the construction, operation, and maintenance of the United States facilities, and with all applicable industrial codes.

Article 4. Upon the termination, revocation, or surrender of this permit, and unless otherwise agreed by the Secretary of State or the Secretary's delegate, the United States facilities in the immediate vicinity of the international boundary shall be removed by and at the expense of the permittee within such time as the Secretary of State or the Secretary's delegate may specify, and upon failure of the permittee to remove this portion of the United States facilities as ordered, the Secretary of State or the Secretary's delegate may direct that possession of such facilities be taken and that they be removed at the expense of the permittee; and the permittee shall have no claim for damages by reason of such possession or removal.

Article 5. If, in the future, it should appear to the United States Coast Guard and the Secretary of Homeland Security or the Secretary's delegate that any facilities or operations permitted hereunder cause unreasonable obstructions to the free navigation of any of the navigable waters of the United States, the permittee may be required, upon notice from the Secretary of Homeland Security or the Secretary's delegate, to remove or alter such of the facilities as are owned by it so as to render navigation through such waters free and unobstructed.

Article 6. This permit and the operation of the United States facilities hereunder shall be subject to the regulations issued by any competent agency of the United States Government, including but not limited to the United States Coast Guard, the Department of Homeland Security, and the United States Section of the International Boundary and Water Commission (USIBWC). This permit shall continue in force and effect only so long as the permittee shall continue the operations hereby authorized in exact accordance with such limitations, terms and conditions.

Article 7. When, in the opinion of the President of the United States, the national security of the United States demands it, due notice being given by the Secretary of State or the Secretary's delegate, the United States shall have the right to enter upon and take possession of any of the United States facilities or parts thereof; to retain possession, management or control thereof for such length of time as may appear to the President to be necessary; and thereafter to restore possession and control to the permittee. In the event that the United States shall exercise such right, it shall pay to the permittee just and fair compensation for the use of such United States facilities upon the basis of a reasonable profit in normal conditions, and the cost of restoring said facilities to as good condition as existed at the time of entering and taking over the same, less the reasonable value of any improvements that may have been made by the United States.

Article 8. Any transfer of ownership or control of the United States facilities or any part thereof shall be immediately notified in writing to the United States Department of State, including the submission of information identifying the transferee. This permit shall remain in force subject to all the conditions, permissions and requirements of this permit and any amendments thereto unless subsequently terminated or amended by the Secretary of State or the Secretary's delegate.

Article 9. (1) The permittee shall acquire such right-of-way grants, easements, permits and other authorizations as may become necessary and appropriate.

(2) The permittee shall save harmless the United States from any claimed or adjudged liability arising out of the construction, completion or maintenance of the facilities.

(3) The permittee shall maintain the United States facilities and every part thereof in a condition of good repair for their safe operation.

Article 10. The permittee shall provide to the General Services Administration (GSA), at no cost to the Federal government, a site that is adequate and acceptable to GSA on which to construct border station facilities at the United States terminal of the bridge. The permittee shall fully comply with all National Environmental Policy Act and National Historic Preservation Act mitigation provisions and stipulations for transfer of the site to the General Services Administration.

Article 11. The permittee shall take all appropriate measures to prevent or mitigate adverse environmental impacts or disruption of significant archeological resources in connection with the construction, operation and maintenance of the United States facilities. The permittee shall submit to the USIBWC the plans approved by the Texas Water Commission for sewage collection and treatment facilities, and their discharge limitations, along with any plans approved by the Texas Water Commission regarding water rights for water diversion facilities in the Rio Grande.

Article 12. The permittee shall submit to the U.S. Commissioner, IBWC, for review by the USIBWC the conceptual and final levee relocation plan that forms a part of the international bridge proposal. Permittee shall comply with any appropriate changes required by the USIBWC and also arrange for transfers of lands, rights-of-way and other works proposed as part of the new bridge construction and levee relocation plan.

Article 13. The permittee shall comply with all agreed actions and obligations undertaken to be performed by it in the Supplemental Environmental Assessment dated June 4, 1993, including but not limited to the mitigation Plan attached thereto as Appendix A, as supplemented by the Environmental Assessment dated October 2009 and the Finding of No Significant Impact dated January 10, 2010. Construction of the United States facilities shall be performed in substantial conformity with Alternatives A or C described in the Supplemental Environmental Assessment dated June 4, 1993, as supplemented by the Environmental Assessment dated October 2009 and the Finding of No Significant Impact dated January 10, 2010.

Article 14. The permittee shall file with the appropriate agencies of the Government of the United States such statements or reports under oath with respect to the United States facilities, and/or permittee's actions in connection therewith, as are now or may hereafter be required under any laws or regulations of the Government of the United States or its agencies.

Article 15. The permittee shall send notice to the Department of State at such time as the construction authorized by this permit is begun, and again at such time as construction is completed, interrupted, or discontinued.

In witness thereof, I, Robert D. Hormats, Under Secretary of State for Economic, Energy, and Agricultural Affairs, have hereunto set my hand this 1st day of June, 2010, in the City of Washington, District of Columbia.

This permit supersedes the permit signed on October 7, 1993 by Under Secretary of State Joan E. Spero.

End Permit text.

Dated: June 10, 2010.
Alex Lee,
Director, Office of Mexican Affairs, Department of State.

[FR Doc. 2010-14696 Filed 6-16-10; 8:45 am]

BILLING CODE 4710-29-P